DEPARTMENT OF AGRICULTURE

Forest Service

California Coast Province Advisory Committee

AGENCY: Forest Service, USDA Forest Service.

ACTION: Notice of meeting.

SUMMARY: The California Coast Province Advisory Committee (CCPAC) will meet on January 12, 2005 in Eureka, California. The purpose of the meeting is to discuss the issues relating to the implementation of the Northwest Forest Plan (NWFP).

DATES: The meeting will be held from 8:30 a.m. to 4 p.m. on January 12, 2006.

ADDRESSES: The meeting will be held at the Six Rivers National Forest Supervisor's Office Conference Room at 1330 Bayshore Way, Eureka, California.

FOR FURTHER INFORMATION CONTACT: Laura Chapman, Committee Coordinator, USDA, Six Rivers National Forest, 1330 Bayshore Way, Eureka, CA 95501. Phone: (707) 441-3549. E-mail: ichapman@fs.fed.us.

SUPPLEMENTARY INFORMATION: The agenda items include: (1) An overview of the PAC and PAC objectives for new members; (2) a report on the April, 2005 NWFP Monitoring Conference; (3) a Regional Ecosystem Office update; (4) a presentation on the Pacific Northwest Aquatic Monitoring Partnership; (5) an update on the Watershed Progress Report; (6) a presentation on the Six Rivers National Forest Business Plan; (7) CCPAC and agency updates; and (8) a discussion of desired topics and dates for upcoming meetings and field trips. The meeting is open to the public. Public input opportunity will be provided and individuals will have the opportunity to address the committee at that time.

Dated: December 6, 2005.
Jeff Walter,
Forest Supervisor.

[FR Doc. 05-23952 Filed 12-12-05; 8:45 am]

BILLING CODE 3410-11-M